DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow the proposed information collection project: “Voluntary Customer Surveys of “Partners” for the Agency for Healthcare Research and Quality.” In accordance with the Paperwork Reduction Act as amended (see in particular 44 U.S.C. 3506(c)(2)(A)), AHRQ invites the public to comment on this proposed information collection request to allow AHRQ to conduct these customer satisfaction surveys.

DATES: Comments on this notice must be received by November 20, 2001.

ADDRESSES: Written comments should be submitted to: Cynthia D. McMichael, Reports Clearance Officer, AHRQ, 2101 East Jefferson Street, Suite 500, Rockville, MD 20852-4908.

All comments will become a matter of public record.

FOR FURTHER INFORMATION CONTACT: Cynthia D. McMichael, AHRQ, Reports Clearance Officer, (301) 594-3132.

SUPPLEMENTARY INFORMATION:

Proposed Project

Voluntary Customer Surveys of “Partners” of the Agency for Healthcare Research and Quality

In response to Executive Order 12862, the Agency for Healthcare Research and Quality (AHRQ) plans to conduct voluntary customer surveys of “partners” to identify how well AHRQ is performing its functions with its partners and to use this information to determine the kind and quality of services they like and expect, their level of satisfaction with existing services, and to implement improvements where feasible and practical.

AHRQ partners are typically health care payers, plans, practioners and providers, researchers, professional associations, AHRQ data suppliers, and State and local governments, as well as persons or entities that provide service to the public for AHRQ, e.g., dissemination of AHRQ publications by a “middle man” such as a professional society.

Partner surveys to be conducted by AHRQ may include, for example, surveys of research grantees to measure satisfaction with technical assistance received from AHRQ. Results of these surveys will be used to assess and redirect resources and efforts needed to improve services. For example, the AHRQ's Office of Research Review, Education, and Policy (ORREP) provides grant funds for training of health services researchers. AHRQ would like to survey scholars whose training it has supported regarding their experience with respect to the AHRQ grant support they received.

In addition, the Office of Health Care Information (OHCI) is proposing to survey one component of their customers: researchers. This proposed survey will be undertaken by a contractor to determine how AHRQ could better serve the research community. Questions asked may include a need for extended hours to answer inquiries on grant application—related matters or the development of a comprehensive manual on submission of grant applications.

Method of Collection

The data will be collected using a combination of preferred methodologies appropriate to each survey. These methodologies are:

• Mail and telephone surveys;

• Electronic technologies; and

• Focus groups.

The estimated annual hour burden is as follows:

Type of survey | No. of respondents | Average burden/ response in minutes | Total hours of burden
Mail/Telephone Surveys/Electronic Technologies | 9,400 | 20 | 3,133.3
Focus Groups | 700 | 97.7 | 1140
Totals | 10,100 | 25.4 | 4,273.3

Request for Comments

Comments are invited on: (a) The necessity of the proposed collections; (b) the accuracy of the Agency's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Copies of these proposed collection plans and instruments can be obtained from the AHRQ Reports Clearance Officer (see above).

Dated: September 14, 2001.
John M. Eisenberg,
Director.

[FR Doc. 01-23548 Filed 9-20-01; 8:45 am]

BILLING CODE 4160-90-M